DEPARTMENT OF HOMELAND SECURITY

Federal Emergency Management Agency

[FEMA-3173-EM]

New York; Amendment No. 1 to Notice of an Emergency Declaration

AGENCY: Department of Homeland Security, Emergency Preparedness and Response Directorate, Federal Emergency Management Agency.

ACTION: Notice.

SUMMARY: This notice amends the notice of an emergency declaration for the State of New York, (FEMA-3173-EM), dated February 25, 2003, and related determinations.

EFFECTIVE DATE: March 11, 2003.

FOR FURTHER INFORMATION CONTACT: Magda Ruiz, Recovery Division, Federal Emergency Management Agency, Washington, DC 20472, (202) 646-2705.

SUPPLEMENTARY INFORMATION: The notice of an emergency declaration for the State of New York is hereby amended to include the following areas among those areas determined to have been adversely affected by the catastrophe declared an emergency by the President in his declaration of February 25, 2003:

Rensselaer County for emergency protective measures (Category B) under the Public Assistance program for a period of 96 hours.

Schoharie County for emergency protective measures (Category B) under the Public Assistance program for a period of 96 hours (already designated for a 48-hour period).

Tioga County for emergency protective measures (Category B) under the Public Assistance program for a period of 48 hours.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program—Other Needs; 83.544, Public Assistance Grants; 83.548, Hazard Mitigation Grant Program.)

Michael D. Brown,
Acting Under Secretary for Emergency Preparedness and Response, Department of Homeland Security.

[FR Doc. 03-8072 Filed 4-2-03; 8:45 am]

BILLING CODE 6718-02-P